FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Caicos Caribbean Lines, Inc. (NVO & OFF), 9999 NW 89th Avenue, Bay 20, Medley, FL 33178, Officer: Joanne Tyson, President/Secretary/Treasurer (Qualifying Individual), Application Type: Add OFF Service.

Chartwell Navigation Inc. (NVO), 20 Heather Lane, Belle Mead, NJ 08502, Officers: Kenneth T. Carr, President/Treasurer/Secretary (Qualifying Individual), Application Type: New NVO License.

Choiceone Logistics, Inc. (NVO & OFF), 10025 NW 116th Way, #17, Medley, FL 33178, Officers: Trina M. Gomez, Pres./VP/Treas./Sec. (Qualifying Individual), Application Type: New NVO & OFF License.

Concord Express, Inc. (NVO), 1031 W. Manchester Blvd., #C, Inglewood, CA 90301, Officers: Philip Chin, Secretary (Qualifying Individual), Application Type: QI Change.

Onsite Global Logistics LLC (OFF), 9816 Whithorn Drive, Suite B, Houston, TX 77095, Officer: Herbert R. Hogg, Operating Manager (Qualifying Individual), Application Type: New OFF License.

Toyo Logistics America, Inc. (NVO), 20675 S. Western Avenue, #208, Torrance, CA 90501, Officers: Kyoko V. Thomas, General Manager (Qualifying Individual), Koshi Hidaka, President, Application Type: QI Change.

USA Tomcargo, Corp. (NVO), 6907 NW 82nd Avenue, Miami, FL 33166, Officers: Hector A. Parra, President (Qualifying Individual), Lya A. Parra, Secretary, Application Type: New NVO License.

Yuexin Global Logistics (USA) Co., Ltd. (NVO & OFF), 805 W. Duarte Road, Suite 107, Arcadia, CA 91007, Officer: Allen Tran, President/Secretary/Treasurer (Qualifying Individual), Application Type: New NVO & OFF License.

Dated: April 20, 2012.
Rachel E. Dickon,
Assistant Secretary.

[FR Doc. 2012-9989 Filed 4-24-12; 8:45 am]

BILLING CODE 6730-01-P